DEPARTMENT OF AGRICULTURE

Forest Service

Medicine Bow-Routt National Forest and Thunder Basin National Grassland; Routt County, Colorado; Steamboat Ski Resort, Steamboat EIS

AGENCY: Forest Service, USDA.

ACTION: Notice of intent to prepare an environmental impact statement.

SUMMARY: The United States Forest Service (Forest Service), Medicine Bow-Routt National Forests and Thunder Basin National Grassland (MBRTB), is preparing an Environmental Impact Statement (EIS) to consider and disclose the anticipated environmental effects of implementing projects proposed by Steamboat Ski and Resort Corporation (SSRC) at Steamboat Ski Resort (Steamboat). The proposal would occur within the resort's existing Special Use Permit area (Permit Boundary) that is located on National Forest System (NFS) lands, and would be consistent with the 2011 Steamboat Master Development Plan Amendment (MDPA). These projects are proposed to improve the quality of guest services, increase operational efficiencies, and enhance the recreation experience for all skier ability levels.

DATES: Comments concerning the scope of the analysis must be received by September 19, 2016. A public open house regarding this proposal will be held at the Steamboat Springs Community Center located at 1605 Lincoln Avenue, Steamboat Springs, CO 80427 on August 25th, 2016 from 5:00pm to 7:00pm. The draft environmental impact statement is expected to be available for public review in January 2017, and the final environmental impact statement is expected September 2017.

ADDRESSES: Send written comments to: Dennis Jaeger, Forest Supervisor, c/o Erica Dickerman, Project Leader, Medicine Bow-Routt National Forests and Thunder Basin National Grassland; 2468 Jackson Street, Laramie, WY 82070; FAX (307) 745-2398 or by email to: comments-rocky-mountain-medicine-bow-routt@fs.fed.us (please include “Steamboat EIS” in the subject line). Electronic comments must be submitted in Word (.doc), Rich Text (.rtf), or Adobe Acrobat (.pdf) format.

FOR FURTHER INFORMATION CONTACT: Additional information related to the proposed project can be obtained from: Erica Dickerman, Recreation Specialist, Hahns Peak Bears Ears Ranger District, who can be reached by phone at (970) 870-2185 or by email at edickerman@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for the action is to: improve the teaching terrain for beginner ability level guests to provide for an effective and comfortable learning progression; address operational inefficiencies and circulation of existing terrain; and provide additional lift-served terrain to meet guest expectations for diverse terrain offerings.

Proposed Action

The proposed action consists of the following specific projects:

Rough Rider and Bashor Bowl

Creation of the Rough Rider Learning Center would include installation of a gondola (Bashor Gondola, located on private lands), construction of the Bashor Children's Facility and Restaurant (located on private lands), removal of the existing Bashor Pavilion and bathroom facilities, installation of multiple moving carpet lifts, installation of a fixed grip chairlift (Rough Rider lift), removal of the existing Rough Rider platter lift, construction of a new skier bypass from Boulevard to the Rough Rider Learning Center, re-grading of associated novice and beginner terrain, and installation of snowmaking infrastructure.

Proposed improvements within Bashor Bowl include replacement and realignment of the outdated Bashor lift (located on both private and NFS lands), construction of two new skiways from the realigned Bashor lift top terminal, grading at the base of Bashor Bowl, expansion of the Rabbit Ears Terrain Park, removal of the Mavericks Superpipe, construction of a new novice trail connecting Yoo Hoo to Big Foot, and reconfiguration of existing snowmaking infrastructure.

Pony Express

Proposed improvements within the Pony Express area include: Enhancements to trail corridors through vegetation removal, grading, and rock blasting; increased capacity of the Pony Express lift by adding carriers to the existing lift; construction of a ski patrol and restroom facility near the top terminal of the Pony Express lift; installation of winch cat anchors; construction of a ski-way from the junction of Lower Middle Rib and Chaps ski trails to the Storm Peak Express chairlift; and installation of snowmaking infrastructure and coverage to Upper and Lower Middle Rib, the Crux, Upper and Lower Longhorn, Lower Pony Express lift line, Upper and Lower Storm Peak Express Connectors, BC Ski Way, and Chaps.

Pioneer Ridge

Steamboat proposes to expand the operational boundary by approximately 355 acres to encompass Pioneer Ridge, construct a new detachable quad chair lift (Pioneer 2 lift), create 95 acres of gladed skiing, conduct 40 acres of hazard tree removal and vegetation management, install a bridge over Burgess Creek and construct an associated collector skiway, and define multiple gladed trails and egress routes to connect with existing and proposed terrain and facilities.

Responsible Official

The Responsible Official is Dennis Jaeger, Forest Supervisor for the MBRTB.

Nature of Decision To Be Made

Based on the analysis that will be documented in the forthcoming EIS, the Responsible Official will decide whether or not to implement, in whole or in part, the Proposed Action or another alternative that may be developed by the Forest Service as a result of scoping. The Responsible Official will also decide what, if any, mitigation measures, and monitoring requirements should be made part of the decision.

Scoping Process

This notice of intent initiates the scoping process, which guides the development of the environmental impact statement. The Forest Service is soliciting comments from Federal, State and local agencies and other individuals or organizations that may be interested in or affected by implementation of the proposed projects. A public open house for this proposal will be held at the Steamboat Springs Community Center located at 1605 Lincoln Avenue, Steamboat Springs, CO 80427 on August 25 from 5:00 p.m. to 7:00 p.m. Representatives from the MBRTB, Hahns Peak Bears Ears Ranger District, and SSRC will be present to answer questions and provide additional project information.

To be most helpful, comments should be specific to the project area and should identify resources or effects that should be considered by the Forest Service. Submitting timely, specific written comments during this scoping period or any other official comment period establishes standing for filing objections under 36 CFR 218 subparts A and B. Additional information and maps of this proposal can be found at: http://www.fs.usda.gov/project/?project=48246.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered.

Dated: August 10, 2016.
Carolyn Upton,
Acting Forest Supervisor.

[FR Doc. 2016-21236 Filed 9-2-16; 8:45 am]

BILLING CODE 3411-15-P